DEPARTMENT OF AGRICULTURE

Forest Service

RIN 0596-AD36

Notice of Intent To Publish for Public Comment a Proposed Permanent Seasonal Order Closing Management Area 3.67 of the Thunder Basin National Grassland to Prairie Dog Hunting

AGENCY: Forest Service, Agriculture (USDA).

SUMMARY: The Forest Service, U.S. Department of Agriculture, is giving notice of its intent to publish for public comment a proposed permanent seasonal order closing Management Area 3.67 in the Douglas Ranger District of the Thunder Basin National Grassland, which covers approximately 42,000 acres in Campbell, Converse, and Weston Counties, Wyoming, from February 1 to August 15 to prairie dog hunting in advance of the public comment period for the proposed order. At the end of the advance notice period, the Forest Service will solicit public comments, as specified in this notice, on the proposed order.

DATES: Advance notice of the opportunity to provide public comment on a proposed permanent seasonal order prohibiting prairie dog hunting in Management Area 3.67 in the Douglas Ranger District of the Thunder Basin National Grassland (Grassland) is being provided until August 18, 2022. Beginning on August 18, 2022, the Forest Service will accept comments on the proposed order for 60 days. The notice of opportunity for public comment will be posted on the Medicine Bow-Routt National Forests and Thunder Basin National Grassland website at https://www.fs.usda.gov/alerts/mbr/alerts-notices and on the Forest Service's website at www.fs.usda.gov/about-agency/regulations-policies.

ADDRESSES: The proposed order and its justification are available on the Medicine Bow-Routt National Forests and Thunder Basin National Grassland website at https://www.fs.usda.gov/alerts/mbr/alerts-notices and on the Forest Service's website at www.fs.usda.gov/about-agency/regulations-policies or can be viewed at the Douglas Ranger District, 2250 East Richards Street, Douglas, WY 82633-8922. Please call ahead at 307-358-4690 to ensure access.

FOR FURTHER INFORMATION CONTACT: Rob Robertson, Douglas District Ranger, 307-358-4690, robert.robertson@usda.gov. Individuals who use telecommunications devices for the hearing-impaired (TDD) may call the Federal Relay Service (FRS) at 800-877-8339, 24 hours a day, every day of the year, including holidays.

SUPPLEMENTARY INFORMATION:

Advance Notice and Public Comment Procedures

Section 4103 of the John D. Dingell, Jr., Conservation, Management, and Recreation Act (Dingell Act) (Pub L. 116-9, Title IV (Sportsmen's Access and Related Matters)) requires that the Secretary of Agriculture, acting through the Chief of the Forest Service, provide public notice and opportunity to comment before permanently or temporarily closing any National Forest System lands to hunting, fishing, or recreational shooting. Section 4103 of the Dingell Act applies to the proposed permanent seasonal order prohibiting prairie dog hunting in Management Area 3.67 in the Douglas Ranger District of the Thunder Basin National Grassland from February 1 to August 15. The public notice and comment process in section 4103(b)(2) of the Dingell Act requires the Secretary to publish in the Federal Register an advance notice of intent of a proposed permanent or temporary hunting, fishing, or recreational shooting order in advance of the public comment period for the proposed order. This notice meets the requirement to publish a notice of intent in the Federal Register in advance of the public comment period for the proposed order. Following the notice period, section 4103(b)(2) of the Dingell Act requires an opportunity for public comment on the proposed order. The public comment period must be at least 60 days for a proposed permanent order. Beginning on August 18, 2022, the Forest Service will accept public comments on the proposed order for 60 days. The notice of opportunity for public comment will be posted on the Medicine Bow-Routt National Forests and Thunder Basin National Grassland website at https://www.fs.usda.gov/alerts/mbr/alerts-notices and at the Forest Service's website at www.fs.usda.gov/about-agency/regulations-policies.

Section 4103(b)(2) of the Dingell Act requires the Forest Service to respond to public comments received on the proposed order before issuing a final order, including an explanation of how any significant issues raised by the comments were resolved and, if applicable, how resolution of those issues affected the proposed order or the justification for the proposed order. The response to comments on the proposed order, justification for the final order, and the issuance of the final order will all be posted on the Forest Service's website at https://www.fs.usda.gov/alerts/mbr/alerts-notices and www.fs.usda.gov/about-agency/regulations-policies.

Background and Need for the Proposed Permanent Order

The proposed order would implement the land management plan direction in the Thunder Basin National Grassland 2020 Plan Amendment. The shooting of black-tailed prairie dogs is a common recreational activity on the Grassland. Grassland land management direction for Management Area 3.67 provides for maintenance of short-stature vegetation communities, including prairie dog colony ecosystems. The proposed permanent seasonal order would prohibit prairie dog hunting in Management Area 3.67 from February 1 to August 15 to protect at-risk animal species associated with black-tailed prairie dog colonies during breeding, nesting, and brood-rearing seasons. Grassland land management direction does not limit prairie dog hunting at any other locations or times on the Grassland.

The proposed permanent seasonal order, map of the area covered by the proposed order, and justification for the proposed order are available on the Medicine Bow-Routt National Forests and Thunder Basin National Grassland website at https://www.fs.usda.gov/alerts/mbr/alerts-notices and on the Forest Service's website at www.fs.usda.gov/about-agency/regulations-policies.

Dated: August 5, 2022.
Deborah Hollen,
Acting Associate Deputy Chief, National Forest System.

[FR Doc. 2022-17269 Filed 8-10-22; 8:45 am]

BILLING CODE 3411-15-P